DEPARTMENT OF TRANSPORTATION

National Highway Traffic Safety Administration

[Docket No. NHTSA-2004-17539; Notice 2]

Delphi Corporation, Grant of Petition for Decision of Inconsequential Noncompliance

Delphi Corporation (Delphi), has determined that at least one of the fittings on the ends of certain brake hose assemblies that it produced between January 2001 and February 2004 do not comply with S5.2.4 and S5.2.4.1 of 49 CFR 571.106, Federal Motor Vehicle Safety Standard (FMVSS) No. 106, “Brake hoses.” Pursuant to 49 U.S.C. 30118(d) and 30120(h), Delphi has petitioned for a determination that this noncompliance is inconsequential to motor vehicle safety and has filed an appropriate report pursuant to 49 CFR part 573, “Defect and Noncompliance Reports.” Notice of receipt of the petition was published, with a 30 day comment period, on April 20, 2004 in the Federal Register (69 FR 21185). NHTSA received no comments.

Delphi produced approximately 1534 aftermarket brake hose assemblies between January 2001 and February 2004 that did not have the manufacturer's logo embossed on the fitting. S5.2.4 requires that:

Each hydraulic brake hose assembly, except those sold as part of a motor vehicle, shall be labeled by means of a band around the brake hose assembly as specified in this paragraph or, at the option of the manufacturer, by means of labeling as specified in S5.2.4.1.

S5.2.4.1 states that:

At least one end fitting of a hydraulic brake hose assembly shall be etched, stamped or embossed with a designation at least one-sixteenth of an inch high that identifies the manufacturer of the hose assembly.

Delphi believes that the noncompliance is inconsequential to motor vehicle safety and that no corrective action is warranted. Delphi states that the subject brake hose assemblies meet the functional performance requirements of the standard for the hose, the fittings, and the assembly, and therefore will perform exactly as intended in the vehicle and will not in any way affect the safety of the vehicle.

Delphi states that, since S5.2.4 allows a band to be placed around the hose as an alternative to embossing the logo on one of the fittings, if the S5.2.4 option had been used, the band would be placed on top of the brake hose, which already contains the same logo, which appears to be redundant. Delphi also asserts that, since the brake hose assemblies at issue are only sold by the vehicle manufacturer's parts division, if the vehicle owner desired to know the brake hose assembly manufacturer, the vehicle manufacturer could provide this information. Delphi states that since these brake hoses are specific to a specific vehicle, and are not sold at normal consumer automotive retail outlets, the person desiring to replace the brake hose assembly could only find them at the vehicle manufacturer's authorized outlet.

The agency agrees that the noncompliance of the brake hose assemblies is inconsequential to motor vehicle safety. Because the manufacturer of the hose and the fitting are the same, and the manufacturer's logo that should be on the fitting is printed on all of the hose that is part of the assembly, in this particular case the label on the brake hose fitting is redundant to the label on the brake hose itself. Delphi has corrected the problem.

In consideration of the foregoing, NHTSA has decided that the petitioner has met its burden of persuasion that the noncompliance described is inconsequential to motor vehicle safety. Accordingly, Delphi's petition is granted and the petitioner is exempted from the obligation of providing notification of, and a remedy for, the noncompliance.

Authority: (49 U.S.C. 30118, 30120; delegations of authority at CFR 1.50 and 501.8).

Issued on: July 1, 2004.
Kenneth N. Weinstein,
Associate Administrator for Enforcement.

[FR Doc. 04-15563 Filed 7-7-04; 8:45 am]

BILLING CODE 4910-59-P